SMALL BUSINESS ADMINISTRATION

[Declaration of Disaster #3317]

State of Texas

As a result of the President's major disaster declaration on January 8, 2001, I find that the following Counties in the State of Texas constitute a disaster area due to damages caused by a severe winter ice storm beginning on December 12, 2000 and continuing: Bowie, Cass and Red River Counties. Applications for loans for physical damage as a result of this disaster may be filed until the close of business on March 9, 2001, and for loans for economic injury until the close of business on October 9, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Delta, Franklin, Hopkins, Lamar, Marion, Morris and Titus Counties in Texas; Caddo County in Louisiana; Choctaw and McCurtain Counties in Oklahoma.

The interest rates are:

| Percent
For Physical Damage:
Homeowners with credit available elsewhere | 7.000
Homeowners without credit available elsewhere | 3.500
Businesses with credit available elsewhere | 8.000
Businesses and non-profit organizations without credit available elsewhere | 4.000
Others (including non-profit organizations) with credit available elsewhere | 7.000
For Economic Injury:
Businesses and small agricultural cooperatives without credit available elsewhere | 4.000

The number assigned to this disaster for physical damage is 331711. For economic injury the numbers are 9K3700 for Texas, 9K3800 for Louisiana, 9K3900 for Oklahoma.

(Catalog of Federal Domestic Assistance Program Nos. 59002 and 59008.)
Dated: January 10, 2001.
Herbert L. Mitchell,
Associate Administrator for Disaster Assistance.

[FR Doc. 01-1323 Filed 1-16-01; 8:45 am]

BILLING CODE 8025-01-U